NATIONAL FOUNDATION ON THE ARTS AND THE HUMANITIES

Meeting of National Council on the Humanities

AGENCY: National Endowment for the Humanities, National Foundation on the Arts and the Humanities.

ACTION: Notice of meeting.

SUMMARY: Pursuant to section 10(a)(2) of the Federal Advisory Committee Act (5 U.S.C. App.), notice is hereby given that the National Council on the Humanities will meet for the following purposes: to advise the Chairman of the National Endowment for the Humanities (NEH) with respect to policies, programs and procedures for carrying out his functions; to review applications for financial assistance under the National Foundation on the Arts and Humanities Act of 1965 (20 U.S.C. 951-960, as amended) and make recommendations thereon to the Chairman; and to consider gifts offered to NEH and make recommendations thereon to the Chairman.

DATES: The meeting will be held on Thursday and Friday, July 12-13, 2012, each day from 9 a.m. until adjourned.

ADDRESSES: The meeting will be held at the Old Post Office Building, 1100 Pennsylvania Ave. NW., Washington, DC 20506. See SUPPLEMENTARY INFORMATION section for room numbers.

FOR FURTHER INFORMATION CONTACT: Lisette Voyatzis, Committee Management Officer, 1100 Pennsylvania Ave. NW., Room 529, Washington, DC 20506, or call (202) 606-8322. Hearing-impaired individuals are advised that information on this matter may be obtained by contacting the National Endowment for the Humanities' TDD terminal at (202) 606-8282. Advance notice of any special needs or accommodations is appreciated.

SUPPLEMENTARY INFORMATION: The Committee meetings of the National Council for the Humanities will be held on July 12, 2012, as follows: the policy discussion session (open to the public) will convene at 9 a.m. until approximately 10:30 a.m., followed by the discussion of specific grant applications and programs before the Council (closed to the public) from 10:30 a.m. until adjourned.

Challenge Grants & Federal/State Partnership: Room 507.

Digital Humanities: Room 402.

Education Programs: Room M-07.

Preservation and Access: Room 415.

Public Programs: Room 421.

Research Programs: Room 315.

In addition, the Jefferson Lecture/National Humanities Medal Committee (closed to the public) will meet from 2 p.m. until 3:30 p.m. in Room 527.

The Plenary Session of the National Council for the Humanities will convene on July 13, 2012 at 9 a.m. in Room M-09. The agenda for the morning session (open to the public) will be as follows:

A. Minutes of the Previous Meeting.

B. Reports.

1. Introductory Remarks.

2. Panel Presentation with Dr. Jeffrey Bolster, Associate Professor at the University of New Hampshire, and Gregory White, Qualified Member of the Engine Department—Oiler, on “The Story of Black Jacks: African American Seamen in the Age of Sail and a Washington Prisoner.”

3. Presentation by Judith Havemann, Director of the NEH Office of Communications, on “Nine Things You Need to Know about the New NEH Web site.”

4. Staff Report.

5. Congressional Report.

6. Reports on Policy and General Matters.

a. Challenge Grants & Federal/State Partnership.

b. Digital Humanities.

c. Education Programs.

d. Preservation and Access.

e. Public Programs.

f. Research Programs.

g. Jefferson Lecture/National Humanities Medals.

The remainder of the Plenary Session will be for consideration of specific applications and Jefferson Lecture and National Humanities Medal candidates, and therefore will be closed to the public.

As identified above, portions of the meeting of the National Council on the Humanities will be closed to the public pursuant to sections 552b(c)(4), 552b(c)(6) and 552b(c)(9)(b) of Title 5, U.S.C., as amended. The closed sessions will include review of personal and/or proprietary financial and commercial information given in confidence to the agency by grant applicants, and discussion of certain information, the premature disclosure of which could significantly frustrate implementation of proposed agency action. I have made this determination pursuant to the authority granted me by the Chairman's Delegation of Authority to Close Advisory Committee Meetings dated July 19, 1993.

Dated: June 21, 2012.
Lisette Voyatzis,
Committee Management Officer.

[FR Doc. 2012-15533 Filed 6-25-12; 8:45 am]

BILLING CODE 7536-01-P